DEPARTMENT OF THE INTERIOR

Minerals Management Service

Outer Continental Shelf (OCS), Western and Central Gulf of Mexico (GOM), Oil and Gas Lease Sales for Years 2009-2012

AGENCY: Minerals Management Service (MMS), Interior.

ACTION: Call for Information and Nominations/Notice of Intent (Call/NOI) to Prepare a Supplemental Environmental Impact Statement (SEIS).

SUMMARY: On April 28, 2006, MMS issued a Call for 11 lease sales in the Western and Central GOM planning areas included in the draft proposed 2007-2012 OCS Oil and Gas Leasing Program. After that Call the Congress enacted a mandate, in the Gulf of Mexico Energy Security Act of 2006 (GOMESA) (Pub. L. 109-432, December 20, 2006), that MMS offer, as soon as practicable, approximately 5.8 million acres located in the southeastern part of the Central Planning Area (CPA) referred to as the “181 South Area.” Central GOM Sale 208 (March 2009) will be the first sale to include the “181 South Area.” The purpose of this Call is to gather information on oil and gas leasing, exploration, and development that might result from the four Central GOM OCS oil and gas lease sales tentatively scheduled in 2009-2012, in particular regarding the “181 South Area.” The purpose of this NOI is to announce MMS's intent to prepare a SEIS on the four Central and three Western GOM OCS oil and gas lease sales tentatively scheduled in 2009-2012. Comments received in response to the NOI will assist MMS in developing the scope of the SEIS.

DATES: Comments on the Call must be received no later than October 10, 2007 and comments on the NOI must be received no later than October 25, 2007 at the addresses specified below.

FOR FURTHER INFORMATION CONTACT: For information on this Call, please contact Mr. Carrol Williams, Minerals Management Service, Gulf of Mexico OCS Region, 1201 Elmwood Park Boulevard (MS 5422), New Orleans, Louisiana 70123-2394, telephone (504) 736-2803. For information on the NOI, you may contact Mr. Dennis Chew, Minerals Management Service, Gulf of Mexico OCS Region, 1201 Elmwood Park Boulevard (MS 5412), New Orleans, Louisiana 70123-2394, telephone (504) 736-2793.

SUPPLEMENTARY INFORMATION: The GOMESA, (Pub. L. 109-432, December 20, 2006), mandated MMS to offer approximately 5.8 million acres in the CPA (formerly the “181 South Area” was an area under Congressional moratoria and Presidential withdrawal for oil and gas leasing “as soon as practicable after the date of enactment of this Act.” This Call/NOI is the initial step in the prelease process for a sale within that 181 South Area. To fully comply with all pertinent laws, rules, and regulations and to allow the public an adequate opportunity to participate in the National Environmental Policy Act (NEPA) process, the earliest MMS would be able to offer this area would be March 2009.

The SEIS will update the environmental and socioeconomic analyses in the Gulf of Mexico OCS Oil and Gas Lease Sales: 2007-2012; Western Planning Area Sales 204, 207, 210, 215, and 218; Central Planning Area Sales 205, 206, 208, 213, 216, and 222, Final Environmental Impact Statement (OCS EIS/EA MMS 2007-018) (Multisale EIS) and will address the addition of the “181 South Area.”

Call for Information and Nominations

1. Authority

This Call is published pursuant to the Outer Continental Shelf Lands Act (OCSLA) as amended (43 U.S.C. 1331-1356), and the regulations issued thereunder (30 CFR part 256).

2. Purpose of Call

The purpose of the Call is to gather information for the following tentatively scheduled OCS lease sales:

Lease sale, OCS planning area | Sale year
Sale 208, Central GOM | 2009
Sale 213, Central GOM | 2010
Sale 216, Central GOM | 2011
Sale 222, Central GOM | 2012

Information on oil and gas leasing, exploration, development, and production within this portion of the CPA is sought from all interested parties. This early planning and consultation step is important for ensuring that all interests and concerns are communicated to the Department of the Interior for future decisions in the leasing process pursuant to the OCSLA and regulations at 30 CFR part 256.

This Call is in response to the mandate within GOMESA to offer additional acreage in the southeastern portion of the Central Planning Area as depicted on the map at the end of this notice. Leasing within this area will be in compliance with applicable laws including all requirements of the NEPA, Coastal Zone Management Act (CZMA) and OCSLA. Established Departmental procedures will be employed.

3. Description of Area

The general area of this Call covers approximately 5.8 million acres in the Central GOM planning area, south of the Sale 181 Area. The area is south of eastern Alabama and western Florida; the nearest point of land is 125 miles northwest in Louisiana. A standard Call for Information Map depicting this portion of the CPA is available without charge from the Minerals Management Service, Public Information Office (MS 5034), 1201 Elmwood Park Boulevard, New Orleans, Louisiana 70123-2394, or by telephone at 1-800-200-GULF. The map is also available via the MMS Web site at http://www.mms.gov.

4. Instructions on Call

Comments must be received no later than 30 days following publication of this document in the Federal Register in envelopes labeled “Comments on the Call for Information for Proposed 2009-2012 Lease Sales in the Central Gulf of Mexico,” submitted to the Gulf of Mexico OCS Region's Leasing Activities Section (Attention: Mr. Carrol Williams) at the previously noted address.

The standard Call for Information Map delineates the Call area, all of which has been identified by MMS as having potential for the discovery of accumulations of oil and gas.

Comments are sought from all interested parties about particular geological, environmental (including natural disasters), biological, archaeological, and socioeconomic conditions or conflicts, or other information that might bear upon the potential leasing and development of this area. Comments are also sought on potential conflicts between future OCS oil and gas activities that may result from the proposed lease sales and State Coastal Management Programs (CMPs). If possible, these comments should identify specific CMP policies of concern, the nature of the conflict foreseen, and steps that MMS could take to avoid or mitigate the potential conflict. Comments may be in terms of broad areas or restricted to particular blocks of concern. Those submitting comments are requested to list block numbers or outline the subject area on the standard Call for Information Map.

5. Use of Information From Call

Information submitted in response to this Call will be used for several purposes. First, comments on possible environmental effects and potential use conflicts will be used in the analysis of environmental conditions in and near the Call area. Comments on environmental and other use conflicts will be used to make a preliminary determination of the potential advantages and disadvantages of oil and gas exploration and development to the region and the Nation. A second purpose for this Call is to use the comments collected in the scoping process to develop proposed actions and alternatives. Third, comments may be used in developing lease terms and conditions to ensure environmentally safe offshore operations, and, fourth, comments may be used to assess potential conflicts between offshore gas and oil activities and State CMPs.

6. Existing Information

The MMS routinely assesses the status of information acquisition efforts and the quality of the information base for potential decisions on a tentatively scheduled lease sale. An extensive environmental studies program has been underway in the GOM since 1973. The emphasis, including continuing studies, has been on “environmental analysis” of biologically sensitive habitats, physical oceanography, ocean-circulation modeling, and ecological effects of oil and gas activities. In response to impacts from Hurricanes Katrina and Rita, the MMS is funding studies regarding hurricane risks to onshore structures and their surrounding communities and environment. Socioeconomic profiles of communities with a high concentration of OCS-related activity are assessing the social and environmental impacts of the 2005 hurricanes. These studies will also evaluate the effects of hurricane-related employment shifts on onshore labor and coastal communities. In addition, the MMS has awarded a number of studies to determine the impact of Hurricane Ivan on offshore oil and gas structures. These studies were designed to analyze and assess the damage to structures and pipelines, determine the effectiveness of current design standards and pollution-prevention systems, and develop recommendations for potential changes to industry standards and MMS regulations, if needed. Results of these studies will also apply to the impacts of Hurricanes Katrina and Rita and future hurricanes.

You may obtain a complete listing of available study reports and information for ordering copies from the Public Information Office referenced above. You may also order the reports for a fee from the U.S. Department of Commerce, National Technical Information Service, 5285 Port Royal Road, Springfield, Virginia 22161, or telephone (703) 605-6000 or (800) 553-6847. In addition, you may obtain a program status report for continuing studies in this area from the Chief, Environmental Sciences Section (MS 5430), Minerals Management Service, Gulf of Mexico OCS Region, 1201 Elmwood Park Boulevard, New Orleans, Louisiana 70123-2394, or telephone (504) 736-2752, or via the MMS Web site at http://www.gomr.mms.gov/homepg/regulate/environ/studiesprogram.html.

7. Tentative Schedule

Call for Information and Nominations | August 2007.
NOI to Prepare a SEIS | August 2007.
Comments Received on Call/NOI | September-October 2007.
Scoping Meetings | October 2007.
Area Identification Decision | October-November 2007.
Draft SEIS Published | April 2008.
Public Hearings on Draft SEIS | May-June 2007.
Final SEIS Published | October 2008.
Proposed Notice of Sale and Coastal Zone Management Consistency Determination | 5 months before lease sale.
Final Notice of Sale | 1 month before lease sale.

Notice of Intent To Prepare a Supplemental Environmental Impact Statement

1. Authority

The NOI is published pursuant to the regulations (40 CFR 1501.7) implementing the provisions of the NEPA of 1969, as amended (42 U.S.C. 4321 et seq. (1988)).

2. Purpose of Notice of Intent

Pursuant to the regulations implementing the procedural provisions of NEPA, MMS is announcing its intent to prepare a SEIS on oil and gas lease sales tentatively scheduled in 2009-2012 in the Western and Central GOM offshore the States of Texas, Louisiana, Mississippi, and Alabama. The SEIS will update the analyses in the Multisale EIS. The NOI also serves to announce the scoping process for this SEIS. Throughout the scoping process, Federal, state, and local government agencies and other interested parties have the opportunity to aid MMS in determining the significant issues and alternatives for analysis in the SEIS. The SEIS analysis will focus on the potential environmental effects of oil and natural gas leasing, exploration, development, and production in the “181 South Area,” and any new information available since the publication of the Multisale EIS.

In an effort to reevaluate and improve the scenarios for OCS lease sales presented in its NEPA documents, the MMS is also using this scoping opportunity to solicit input on previous forecasts and present methods of forecasting[TZ (LD)8] exploration and development activity, pipeline landfalls, and onshore waste disposal sites. Federal, state, and local government agencies; industry; and the public are encouraged to comment on recently published reports prepared by MMS. These reports can be found at http://www.gomr.mms.gov/homepg/regulate/environ/nepa/nepaprocess.html.

3. Supplemental Information

As mandated in the recently enacted GOMESA, MMS shall offer the “181 South Area” for oil and gas leasing pursuant to the OCSLA (43 U.S.C. 1331 et seq.). In March 2009, proposed Lease Sale 208 would be the first CPA sale to offer the “181 South Area.” The MMS is proposing to prepare a SEIS to address the addition of the “181 South Area” and any new information available since the publication of the Multisale EIS. The resource estimates and scenario information for the SEIS analyses will be presented as a range that would encompass the resources and activities estimated for any of the seven proposed lease sales. At the completion of this SEIS process, a decision will be made for proposed Central Sale 208 (2009) and Western Sale 210 (2009).

This SEIS will supplement the Gulf of Mexico OCS Oil and Gas Lease Sales: 2007-2012; Western Planning Area Sales 204, 207, 210, 215, and 218; Central Planning Area Sales 205, 206, 208, 213, 216, and 222, Final Environmental Impact Statement (OCS EIS/EA MMS 2007-018). For more information on the SEIS, you may contact Dennis Chew, Minerals Management Service, Gulf of Mexico OCS Region, 1201 Elmwood Park Boulevard (MS 5412), New Orleans, Louisiana 70123-2394, or by e-mail at environment@mms.gov. You may also contact Mr. Chew by telephone at (504) 736-2793.

4. Cooperating Agency

The MMS invites other Federal agencies and state, tribal, and local governments to consider becoming cooperating agencies in the preparation of the SEIS. We invite qualified government entities to inquire about cooperating agency status for the SEIS. Following the guidelines from the Council on Environmental Quality (CEQ), qualified agencies and governments are those with “jurisdiction by law or special expertise.” Potential cooperating agencies should consider their authority and capacity to assume the responsibilities of a cooperating agency and note that an agency's role in the environmental analysis neither enlarges nor diminishes the final decisionmaking authority of any other agency involved in the NEPA process. Upon request, the MMS will provide potential cooperating agencies with a written summary of ground rules for cooperating agencies, including time schedules and critical action dates, milestones, responsibilities, scope and detail of cooperating agencies' contributions, and the availability of pre-decisional information. The MMS anticipates this summary will form the basis for a Memorandum of Understanding between MMS and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at http://ceq.eh.doe.gov/nepa/regs/cooperating/cooperatingagenciesmemorandum.html and http://ceq.eh.doe.gov/nepa/regs/cooperating/cooperatingagencymemofactors.html.

The MMS, as the lead agency, will not provide financial assistance to cooperating agencies. Yet, even if an organization is not a cooperating agency, opportunities exist to provide information and comments to MMS during the normal public input phases of the NEPA/SEIS process. If further information about cooperating agencies is needed, please contact Mr. Dennis Chew at (504) 736-2793.

5. Comments

Federal, state, and local government agencies and other interested parties are requested to send their written comments on the scope of the SEIS, significant issues that should be addressed, alternatives that should be considered, and scenario development in one of the following two ways:

1. In written form enclosed in an envelope labeled “Comments on the Supplemental Multisale EIS” and mailed (or hand carried) to the Regional Supervisor, Leasing and Environment (MS 5410), Minerals Management Service, Gulf of Mexico OCS Region, 1201 Elmwood Park Boulevard, New Orleans, Louisiana 70123-2394.

2. Electronically to the MMS e-mail address: environment@mms.gov.

Comments should be submitted no later than 45 days from the publication of this NOI.

Notice of Public Scoping Meetings on the Supplemental Environmental Impact Statement

Pursuant to the regulations implementing the procedural provisions of NEPA (42 U.S.C. 4321 et. seq.), the MMS will hold public scoping meetings in Texas, Louisiana, and Alabama on the SEIS for the tentatively scheduled 2009-2012 oil and gas leasing proposal in the Western and Central GOM. While the purpose of these meetings will be to solicit comments on the scope of the SEIS, MMS is also using this opportunity to solicit input on previous forecasts and current forecasting methods of exploration and development activity, pipeline landfalls, and onshore waste disposal sites associated with OCS lease sales. Federal, state, and local government agencies; industry; and the public are encouraged to comment on recently published reports prepared by MMS. These reports can be found at http://www.gomr.mms.gov/homepg/regulate/environ/nepa/nepaprocess.html.

The public scoping meetings are scheduled as follows:

• Tuesday, October 9, 2007, Larose Civic Center, Larose Regional Park, Larose, Louisiana, 7 p.m.

• Wednesday, October 10, 2007, The Woods Auditorium in the Energy, Coast and Environment Building at the Louisiana State University Campus, Baton Rouge, Louisiana, 1 p.m.

• Thursday, October 11, 2007, Riverview Plaza Hotel, 64 South Water Street, Mobile, Alabama, 7 p.m.

• Thursday, October 11, 2007, Marriott Houston Intercontinental at George Bush Intercontinental, 18700 John F. Kennedy Boulevard, Houston, Texas, 1 p.m.

For further information about the scoping meetings, contact Mr. Dennis Chew, Minerals Management Service, Gulf of Mexico OCS Region, 1201 Elmwood Park Boulevard (MS 5412), New Orleans, Louisiana 70123-2394, telephone (504) 736-2793.

Dated: August 24, 2007.
Randall B. Luthi,
Director, Minerals Management Service.

[FR Doc. E7-17737 Filed 9-7-07; 8:45 am]

BILLING CODE 4310-MR-P